DEPARTMENT OF TRANSPORTATION

Federal Aviation Administration

Notice of Intent to Request Extension From the Office of Management and Budget of a Currently Approved Information Collection Activity, Request for Comments; Certification Procedures for Products and Parts

AGENCY: Federal Aviation Administration (FAA), DOT.

ACTION: Notice and request for comments.

SUMMARY: The FAA invites public comments about our intention to request the Office of Management and Budget (OMB) to approve a current information collection. CFR part 21 prescribes certification standards for aircraft, aircraft engines, propellors, products, and parts. The information collected is used to determine compliance and applicant eligibility.

DATES: Please submit comments by August 24, 2010.

FOR FURTHER INFORMATION CONTACT: Carla Scott on (202) 267-9895, or by e-mail at: Carla.Scott@faa.gov.

SUPPLEMENTARY INFORMATION:

Federal Aviation Administration (FAA)

Title: Certification Procedures for Products and Parts.

Type of Request: Extension without change of an approved collection.

OMB Control Number: 2120-0018.

Form(s): 8110-12, 8130-1, 8130-3, 8130-6, 8130-9, 8130-12.

Affected Public: A total of 13,339 respondents.

Frequency: The information is collected on occasion.

Estimated Average Burden per Response: Approximately 17 minutes per response.

Estimated Annual Burden Hours: An estimated 30,487 hours annually.

Abstract: CFR part 21 prescribes certification standards for aircraft, aircraft engines, propellors, products, and parts. The information collected is used to determine compliance and applicant eligibility. The respondents are aircraft parts designers, manufacturers, and aircraft owners.

Addresses: Send comments to the FAA at the following address: Ms. Carla Scott, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on June 21, 2010.
Carla Scott,
FAA Information Collection Clearance Officer, IT Enterprises Business Services Division, AES-200.

[FR Doc. 2010-15424 Filed 6-24-10; 8:45 am]

BILLING CODE 4910-13-P